DEPARTMENT OF LABOR

Employment and Training Administration

[TA-W-37,600 and NAFTA-03998]

Trinity Industries, Incorporated, Mt. Orab, OH; Notice of Affirmative Determination Regarding Application for Reconsideration

By letter of September 25, 2000 the petitioner requested administrative reconsideration of the Department of Labor's Notice of Negative Determination Regarding Eligibility to Apply for Worker Adjustment Assistance and NAFTA Transitional Adjustment Assistance, applicable to petition numbers TA-W-37,600 and NAFTA 03998, respectively. The denial notices were signed on August 16, 2000 and published in the Federal Register on September 12, 2000 (65 FR 55049 and 55050, respectively).

The petitioner provided additional information about imports of coal cars which should have been considered by the Department in its survey of customers.

Conclusion

After careful review of the application, I conclude that the claim is of sufficient weight to justify reconsideration of the Department of Labor's prior decision. The application is, therefore, granted.

Signed at Washington, DC this 4th day of October 2000.
Linda G. Poole,
Certifying Officer, Office of Trade Adjustment Assistance.

[FR Doc. 00-26729 Filed 10-17-00; 8:45 am]

BILLING CODE 4510-30-M